DEPARTMENT OF THE INTERIOR

National Park Service

National Register of Historic Places; Notification of Pending Nominations and Related Actions

Nominations for the following properties being considered for listing or related actions in the National Register were received by the National Park Service before June 25, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by August 9, 2005.

John W. Roberts,
Acting Chief, National Register/National Historic Landmarks Program.

ALABAMA

Cherokee County

Barry Springs, (Cherokee Trail of Tears MPS) 5261 Cty Rd. 99, Gaylesville, 05000787

CALIFORNIA

Los Angeles County

Kerckoff Building and Annex, 558-64 S. Main St., Los Angeles, 05000774

Long Beach Professional Building, 117 E. 8th St., Long Beach, 05000773

Mariposa County

Hornitos Masonic Hall No. 98, 2877 Bear Valley Rd., Hornitos, 05000775

Napa County

Carneros Creek Bridge on Old Sonoma Road, (Highway Bridges of California MPS) Old Sonoma Rd., 0.2 mi. NE of CA 12/121, Napa, 05000779

Garnett Creek Bridge on CA 29, (Highway Bridges of California MPS) CA 29 over Garnett Creek at postmile 39.08, Calistoga, 05000776

Garnett Creek Bridge on Greenwood Avenue, (Highway Bridges of California MPS) Greenwood Ave., 0.2 mi. NE of Grant Ave., Calistoga, 05000778

Maxwell Creek Bridge on Hardin Road, (Highway Bridges of California MPS), Hardin Rd., 1.6 mi. SE of Pope Canyon Rd., Locoallomi, 05000777

Napa River Bridge on Zinfandel Lane, (Highway Bridges of California MPS) Zinfandel Ln., 1 mi. E of CA 29, St. Helena, 05000781

Swartz Creek Bridge on Aetna Springs Road, (Highway Bridges of California MPS) Aetna Springs Rd., 0.8 mi. W of Pope Valley Rd., Aetna Springs, 05000780

Riverside County

Corona High School, 815 W. 6th St., Corona, 05000772

Tulare County

Crawford House, 1184 Crawford Ave., Steamboat Springs, 05000782

COLORADO

Las Animas County

First Methodist Episcopal Church, 216 Broom St., Trinidad, 05000783

DISTRICT OF COLUMBIA

District of Columbia

Dumblane, Address Restricted, Washington, 05000784

GEORGIA

Muscogee County

Silver's Five and Dime Storee—H.L. Green Co., (Columbus MRA) 1101-1103 Broadway, Columbus, 05000794

Tarver, C.B., Building, (Columbus MRA) 18-23 W. 11th St., Columbus, 05000793

KENTUCKY

Campbell County

Cote Brillante Historic District, Portions of E 10th, E 11th Sts., Park Ave., Camryn Court, Vine, Center, Prospect, and Miller Sts., and Wiedemann Place, Newport, 05000791

Fayette County

Pope, Sen. John and Eliza, House, 326 Groasvenor Ave., Lexington, 05000785

Fleming County

Central Kentucky Blue Grass Seed Co., 321 Henry St., Lexington, 05000790

Jefferson County

Buildings at 9009-906 East Main Street,

900-906 E. Main St., Louisville, 05000789

Cox, Carrie Gaulbert and Attilla Cox, Jr., House, 389 Mockingbird Valley Rd., Louisville, 05000786

Mercer County

McCoun, Joseph—Sharp, D.S., House, Jct. of Bondville Rd. and Crews St., Bondville/Salvisa, 05000788

Louisiana

Natchitoches Parish

Fish Hatchery 2 Site, Address Restricted, Natchitoches, 05000808

MAINE

Franklin County

Salem Town House (Former), ME 142, Salem, 05000795

Lincoln County

Reed, Co. Isaac G., House, 60 Glidden St., Waldoboro, 05000796

Penobscot County

Building at 84-96 Hammond Street, 84-96 Hammond St., Bangor, 05000797

Piscataquis County

Monson Engine House (Former), 6 Tenney Hill Rd., Monson, 05000798

MINNESOTA

Lake Of The Woods County

Canadian National Railways Depot, 420 N. Main Ave., Baudette, 05000809

Ramsey County

Hamm, Theodore, Brewing Company, Minnehaha Ave. E, bet Payne Ave. and Stroh Dr., St. Paul, 05000832

MISSOURI

Jackson County

Graphic Arts Building, 934 Wyandotte St., Kansas City, 05000810

St. Louis County

Beverly Theater, 7740 Olive Blvd., University City, 05000811

St. Louis Independent City

Cadillac Automobile Company Building, (Auto-Related Resources of St. Louis, Missouri MPS) 3224 Locust St., St. Louis (Indpendent City), 05000812

NEBRASKA

Lancaster County

Masonic Temple, 1635 L St., Lincoln, 05000792

OREGON

Clatsop County

Shively—McClure Historic District, From Franklin Ave. to Lexington Ave., and from 9th St. to 18th St., Astoria, 05000829

Coos County

Coos Bay Bridge NO. 01823, (McCullough, C.B., Major Oregon Coast Highway Bridges MPS) OR Coast 9, U.S. 101, MP233.99, North Bend, 05000817

Curry County

Rogue River Bridge No. 01172, (McCullough, C.B., Major Oregon Coast Highway Bridges MPS) OR Coast 9, U.S. 101, MP 327.70, Gold Beach, 05000814

Douglas County

Umpqua River Bridge No. 01822, (McCullough, C.B., Major Oregon Coast Highway Bridges MPS) OR Coast 9, U.S. 101, MP211.21, Reedsport, 05000815

Lane County

Big Creek Bridge No. 01180, (McCullough, C.B., Major Oregon Coast Highway Bridges MPS) OR Coast 9, U.S. 101, MP175.02, Heceta Head, 05000819

Cape Creek Bridge No. 01113, (McCullough, C.B., Major Oregon Coast Highway Bridges MPS) OR Coast 9, U.S. 101, MP178.35, Heceta Head, 05000820

Siuslaw River Bridge No. 01821, (McCullough, C.B., Major Oregon Coast Highway Bridges MPS) OR Coast 9, U.S. 101, MP109.98, Florence, 05000816

Ten Mile Creek Bridge No. 01181, (McCullough, C.B., Major Oregon Coast Highway Bridges MPS) OR Coast 9, U.S. 101, MP171.44, Yachats, 05000818

Lincoln County

Depoe Bay Bridge No. 01388, (McCullough, C.B., Major Oregon Coast Highway Bridges MPS) OR Coast 9, U.S. 101, MO127.61, Depoe Bay, 05000823

Rocky Creek Bridge No. 01089, (McCullough, C.B., Major Oregon Coast Highway Bridges MPS) Otter Crest Loop Rd., U.S. 101 frontage road, MP F130.00, Otter Rock, 05000824

Yaquina Bay Bridge No. 01820, (McCullough, C.B., Major Oregon Coast Highway Bridges MPS) OR Coast 9, U.S. 101, MP141.67, Newport, 05000821

Multnomah County

Hiberian Hall, (Eliot Neighborhood MPS) 128 NE Russell, Portland, 05000826

Malarkey, Herbert and Elizabeth, House, 1717 SW Elm St., Portland, 05000827

Northwest Fence and Wire Works, 400 NE 11th Ave., Portland, 05000828

Tillamook County

Wilson River Bridge No. 01499, (McCullough, C.B., Major Oregon Coast Highway Bridges MPS) OR Coast 9, U.S. 101, MP 64.23, Tillamook, 05000825

PENNSYLVANIA

Montgomery County

Roberts and Mander Stove Company Buildings, Roughly along Jacksonville Rd., Tanner Ave., and Lincoln Ave., Hatboro, 05000799

SOUTH DAKOTA

Codington County

Barr Farmstead, 15539 444th Ave., Florence, 05000831

TENNESSEE

Benton County

Reynoldsburg—Paris Road, 5.0 mi. NE of Camden off Chestnut Hill Rd., Camden, 05000803

Coffee County

Crouch—Ramsey Family Farm, (Historic Family Farms in Middle Tennessee MPS) 3016 Hickory Grove Rd., Summitville, 05000830

Fayette County

Bolivar—Somerville Stage Road, Herron Dr., Stewart Rd., 4.0 mi. SW of Whiteville, Whiteville, 05000802

Hardeman County

Hatchie River Ferry, End of Big Bend Ln, 1.0 mi. S of TN 15, Bolivar, 05000800

Sequatchie County

Hill Road at the Cumberland Plateau, W. of Fredonia Rd., 1.0 mi NW of downtown Dunlap, Dunlap, 05000801

VERMONT

Addison County

Cornwall General Store, 2635 VT 30, Seth Warner Highway, Cornwall, 05000804

Chittenden County

Robarge, John B. Duplex,

58-60 N. Champlain St., Burlington, 05000805

Windham County

Butterfield House, 204 Main St., Grafton, 05000806

Grafton Post Office, 205 Main St., Grafton, 05000807

[FR Doc. 05-14549 Filed 7-22-05; 8:45 am]

BILLING CODE 4312-51-P